DEPARTMENT OF HOMELAND SECURITY

Federal Emergency Management Agency

[Docket No. FEMA-2014-0002; Internal Agency Docket No. FEMA-B-1343]

Proposed Flood Hazard Determinations

AGENCY: Federal Emergency Management Agency; DHS.

ACTION: Notice; correction.

SUMMARY: On September 19, 2013, FEMA published in the Federal Register a proposed flood hazard determination notice at 78 FR 57646 for Harris County, Texas, and Incorporated Areas. The table published in this notice provides corrected or updated information regarding the proposed flood hazard determinations for affected communities in Harris County, Texas, and Incorporated Areas.

DATES: Comments are to be submitted on or before March 18, 2015.

ADDRESSES: The Preliminary FIRM, and where applicable, the FIS report for each community are available for inspection at both the online location and the respective Community Map Repository address listed in the table below. Additionally, the current effective FIRM and FIS report for each community are accessible online through the FEMA Map Service Center at www.msc.fema.gov for comparison.

You may submit comments, identified by Docket No. FEMA-B-1343, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064 or (email) Luis.Rodriguez3@fema.dhs.gov.

SUPPLEMENTARY INFORMATION: FEMA proposes to make flood hazard determinations for each community listed in the table below, in accordance with Section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own, or pursuant to policies established by other Federal, State, or regional entities. These flood hazard determinations are used to meet the floodplain management requirements of the NFIP and are also used to calculate the appropriate flood insurance premium rates for new buildings built after the FIRM and FIS report become effective.

The communities affected by the flood hazard determinations are provided in the table below. Any request for reconsideration of the revised flood hazard determinations shown on the Preliminary FIRM and FIS report that satisfies the data requirements outlined in 44 CFR 67.6(b) is considered an appeal. Comments unrelated to the flood hazard determinations will also be considered before the FIRM and FIS report are made final.

Use of a Scientific Resolution Panel (SRP) is available to communities in support of the appeal resolution process. SRPs are independent panels of experts in hydrology, hydraulics, and other pertinent sciences established to review conflicting scientific and technical data and provide recommendations for resolution. Use of the SRP may only be exercised after FEMA and local communities have been engaged in a collaborative consultation process for at least 60 days without a mutually acceptable resolution of an appeal. Additional information regarding the SRP process can be found online at http://www.floodsrp.org/pdfs/srp_fact_sheet.pdf.

Correction

In the proposed flood hazard determination notice in the September 19, 2013, issue of the Federal Register beginning at 78 FR 57646, FEMA published a table titled “Harris County, Texas, and Incorporated Areas.” This table contained a Web page address for online access and viewing of the proposed flood hazard determination information for the communities listed in the table. A Revised Preliminary FIRM and/or FIS report have subsequently been issued for some or all of the communities listed in the table.

The information available through the table published below is to be used in lieu of the information previously available.

(Catalog of Federal Domestic Assistance No. 97.022, “Flood Insurance.”)

Dated: November 24, 2014.
Roy E. Wright,
Deputy Associate Administrator for Mitigation, Department of Homeland Security, Federal Emergency Management Agency.

Community | Community Map Repository Address
Harris County, Texas, and Incorporated Areas
Maps Available for Inspection Online at: http://www.fema.gov/preliminaryfloodhazarddata
City of Baytown | City Hall, 2401 Market Street, Baytown, TX 75522.
City of Deer Park | City Hall, 710 East San Augustine, Deer Park, TX 77536.
City of El Lago | City Hall, 411 Tallowood Drive, El Lago, TX 77586.
City of Friendswood | City Hall, 910 South Friendswood Drive, Friendswood, TX 77546.
City of Galena Park | City Hall, 2000 Clinton Drive, Galena Park, TX 77547.
City of Houston | Floodplain Management Office, 1002 Washington Avenue, 3rd Floor, Houston, TX 77002.
City of Jacinto City | Jacinto City City Hall, 1301 Mercury Drive, Houston, TX 77029.
City of La Porte | City Hall, 604 West Fairmont Parkway, La Porte, TX 77571.
City of League City | Building Department, 600 West Walker Street, League City, TX 77573.
City of Morgans Point | City Hall, 1415 East Main Street, Morgan's Point, TX 77571.
City of Nassau Bay | City Hall, 1800 Space Park Drive, Suite 200, Nassau Bay, TX 77058.
City of Pasadena | Municipal Services Building, 1114 Davis Street, Pasadena, TX 77506.
City of Seabrook | City Hall, 1700 First Street, Seabrook, TX 77586.
City of Shoreacres | City Hall, 601 Shoreacres Boulevard, Shoreacres, TX 77571.
City of South Houston.. | City Hall, 1018 Dallas Street, South Houston, TX 77587.
City of Taylor Lake Village | City Hall, 500 Kirby Boulevard, Taylor Lake Village, TX 77586.
City of Webster | City Hall, 101 Pennsylvania Avenue, Webster, TX 77598.
Unincorporated Areas of Harris County | Harris County Permits Office, 10555 Northwest Freeway, Suite 120, Houston, TX 77092.

[FR Doc. 2014-29547 Filed 12-17-14; 8:45 am]

BILLING CODE 9110-12-P